DEPARTMENT OF ENERGY

Federal Energy Regulatory Commission

[Docket No. PF05-6-000]

Transcontinental Gas Pipe Line Corporation; Supplemental Notice of Intent To Prepare an Environmental Assessment for the Proposed Leidy to Long Island Expansion Project and Request for Comments on Environmental Issues

October 19, 2005.

The staff of the Federal Energy Regulatory Commission (FERC or Commission) are preparing an environmental assessment (EA) that will discuss the environmental impacts of the Leidy to Long Island Expansion Project (project) proposed by Transcontinental Gas Pipe Line Corporation (Transco). The FERC will be the lead Federal agency in the preparation of the EA, but will prepare the EA in coordination with its cooperating agencies: The Environmental Protection Agency, National Oceanic and Atmospheric Administration National Marine Fisheries Service, U.S. Army Corps of Engineers, and the U.S. Fish and Wildlife Service. The document will satisfy the requirements of the National Environmental Policy Act.

This notice supplements the informational letter issued by the FERC on January 13, 2005, which announced FERC's initiation of a pre-filing environmental review for the project, and the Notice of Intent (NOI) to prepare an EA issued on May 25, 2005. Those previous transmittals provided information about the proposed project and the FERC's environmental review process and requested comments on the scope of issues to address in the EA. The comment period for the NOI closed on June 24, 2005.

Transco has recently identified two new potential compressor station sites in Middlesex County, New Jersey. These new sites were not included in the previous transmittals issued by FERC. The sites, known as Mario's Concrete (Lot 8) and Manzo site (Lot 13.13), are located southeast of the Madison Park subdivision, and also southeast of the proposed Cheesequake site. They are bordered by Bordentown Avenue to the west. A map depicting the proposed site locations is included in Appendix A.¹ We ² are specifically requesting comments on the new sites or any previously proposed sites. The scoping period for this notice ends on November 18, 2005.

¹ The appendices referenced in this notice are not being printed in the Federal Register. Copies are available on the Commission's Internet Web site (http://www.ferc.gov) at the “eLibrary” link or from the Commission's Public Reference and Files Maintenance Branch at (202) 502-8371. For instructions on connecting to eLibrary, refer to the end of this notice. Copies of the appendices were sent to all those receiving this notice in the mail.

² “We,” “us,” and “our” refer to the environmental staff of the FERC's Office of Energy Projects.

Public Participation

You can make a difference by providing us with your specific comments or concerns about the project. You should focus on the potential environmental effects of the proposal and measures to avoid or lessen environmental impact. The more specific your comments, the more useful they will be. By becoming a commentor, your concerns will be addressed in the EA and considered by the Commission. Please carefully follow these instructions to ensure that your comments are received in time and properly recorded:

• Send an original and two copies of your letter to: Magalie R. Salas, Secretary, Federal Energy Regulatory Commission, 888 First St., NE., Room 1A, Washington, DC 20426;

• Label one copy of your comments for the attention of Gas Branch 3, DG2E;

• Reference Docket No. PF05-6-000 on the original and both copies; and

• Mail your comments so that they will be received in Washington, DC on or before November 18, 2005.

Please note that we are continuing to experience delays in mail deliveries from the U.S. Postal Service. Therefore, the Commission encourages electronic filing of comments. See 18 CFR 385.2001(a)(1)(iii) and the instructions on the Commission's Internet Web site at http://www.ferc.gov under the “e-Filing” link and the link to the User's Guide. Prepare your submission in the same manner as you would if filing on paper and save it to a file on your hard drive. Before you can file comments you will need to create a free account by clicking on “Login to File” and then “New User Account.” You will be asked to select the type of filing you are making. This filing is considered a “Comment on Filing.”

Becoming an Intervenor

Because the NEPA Pre-Filing Process occurs before an application to begin a proceeding is officially filed, petitions to intervene during this process are premature and will not be accepted by the Commission. Transco proposes to file its application for authorization to construct the proposed facilities in mid-November. At that time, the Commission will publish notice of the application in the Federal Register and establish a deadline for interested persons to intervene in the proceeding.

To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with e-mail addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

This notice is being sent to affected landowners; Federal, State, and local government agencies; elected officials; environmental and public interest groups; Native American tribes; local libraries and newspapers; and other interested parties that expressed an interest in the project. We encourage government representatives to notify their constituents of this planned project and encourage them to comment on their areas of concern.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance with eLibrary, the eLibrary helpline can be reached at 1-866-208-3676, TTY (202) 502-8659, or at ferconlinesupport@ferc.gov. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, Transco has established a toll-free information telephone line at (866) 455-9103, as well as an e-mail address at questions@northeastexpansion.williams.com. Transco's single point of contact for the project is Mr. James Goudreau, and can be reached by phone at (908) 788-8996. You may also access Transco's Leidy to Long Island Expansion Project Web site at http://www.williams.com/northeastexpansion.

Magalie R. Salas,
Secretary.

[FR Doc. E5-5905 Filed 10-25-05; 8:45 am]

BILLING CODE 6717-01-P